DEPARTMENT OF THE TREASURY

Internal Revenue Service

26 CFR Part 1

[TD 9885]

RIN 1545-BO56

Base Erosion and Anti-Abuse Tax; Correction

AGENCY: Internal Revenue Service (IRS), Treasury.

ACTION: Final regulations; correction.

SUMMARY: This document contains corrections to final regulations (TD 9885) that were published in the Federal Register on Friday, December 6, 2019. The final regulations implements the base erosion and anti-abuse tax, designed to prevent the reduction of tax liability by certain large corporate taxpayers through certain payments made to foreign related parties and certain tax credits.

DATES: This correction is effective on February 28, 2020 and is applicable on December 6, 2019.

FOR FURTHER INFORMATION CONTACT: Concerning § 1.6038A-1, Brad McCormack or Anand Desai at (202) 317-6939 (not toll-free numbers).

SUPPLEMENTARY INFORMATION:

Background

The final regulations (TD 9885) that are the subject of this correction are under section 1.6038A of the Internal Revenue Code.

Need for Correction

As published the final regulations (TD 9885) contain errors that may prove to be misleading and are in need of clarification.

Correction of Publication

Accordingly, the final regulations (TD 9885), that are subject of FR Doc. 2019-25744, published on December 6, 2019 (84 FR 66968), are corrected as follows:

1. On page 66997, in the third column, the last line from the bottom of the last full paragraph, the language “years beginning Monday” is corrected to read “years beginning on or after Monday”.

2. On page 67007, in the third column, the second line of the second full paragraph, the language “taxable years beginning Monday” is corrected to read “taxable years beginning on or after Monday”.

Martin V. Franks,
Chief, Publications and Regulations Branch, Legal Processing Division, Associate Chief Counsel (Procedure and Administration).

[FR Doc. 2020-03277 Filed 2-27-20; 8:45 am]

BILLING CODE 4830-01-P